COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) from the Procurement List that were furnished by nonprofit agencies employing persons who are blind or have other severe disabilities.

DATES: Date added to and deleted from the Procurement List: December 09, 2023.

ADDRESSES: Committee for Purchase From People Who Are Blind or Severely Disabled, 355 E Street SW, Suite 325, Washington, DC 20024.

FOR FURTHER INFORMATION CONTACT: Michael R. Jurkowski, Telephone: (703) 785-6404 or email CMTEFedReg@AbilityOne.gov.

SUPPLEMENTARY INFORMATION:

Deletions

On 10/3/2023, the Committee for Purchase From People Who Are Blind or Severely Disabled published notice of proposed deletions from the Procurement List. This notice is published pursuant to 41 U.S.C. 8503(a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

7510-01-600-8023—Dated 2023 12-Month 2-Sided Laminated Wall Planner, 24″ x 37″

7510-01-600-7581—Wall Calendar, Dated 2023, Wire Bound w/hanger, 15.5″ x 22″

7510-01-600-7588—Monthly Wall Calendar, Dated 2023, Jan-Dec, 8½″ x 11″

7510-01-600-7634—Wall Calendar, Dated 2023, Wire Bound w/Hanger, 12″ x 17″

7510-01-682-8100—Wall Calendar, Recycled, Dated 2023, Vertical, 3 Months, 12¼″ x 26″

7510-01-682-8093—Monthly Planner, Recycled, Dated 2023, 14-month, 6⅞″ x 8¾″

7510-01-682-8112—Professional Planner, Dated 2023, Recycled, Weekly, Black, 8½″ x 11″

7530-01-600-7580—Daily Desk Planner, Dated 2023, Wire bound, Non-refillable, Black Cover

7530-01-600-7606—Monthly Desk Planner, Dated 2023, Wire Bound, Non-refillable, Black Cover

7530-01-600-7615—Weekly Desk Planner, Dated 2023, Wire Bound, Non-refillable, Black Cover

7530-01-600-7626—Weekly Planner Book, Dated 2023, 5″ x 8″, Black

Designated Source of Supply: Chicago Lighthouse Industries, Chicago, IL

Contracting Activity: GSA/FAS ADMIN SVCS ACQUISITION BR(2, NEW YORK, NY

Michael R. Jurkowski,
Acting Director, Business Operations.

[FR Doc. 2023-24790 Filed 11-8-23; 8:45 am]

BILLING CODE 6353-01-P